DEPARTMENT OF TRANSPORTATION

Federal Highway Administration

Notice of Final Federal Agency Actions on Proposed Highway in San Bernardino County, CA

AGENCY: Federal Highway Administration (FHWA), DOT.

ACTION: Notice of limitation on claims for judicial review of actions of FHWA and other Federal agencies.

SUMMARY: This notice announces actions taken by the California Department of Transportation (Caltrans) pursuant to its assigned responsibilities under 23 U.S.C. 327 that are final within the meaning of 23 U.S.C. 139(l)(1). These actions relate to a proposed highway project, US-395 from post miles 19.05-35.6 in San Bernardino County, California. Those actions grant licenses, permits, and approval of the project.

DATES: By this notice, the FHWA, on behalf of Caltrans, is advising the public of final agency actions subject to 23 U.S.C. 139(l)(1). A claim seeking judicial review of the Federal agency actions on the highway project will be barred unless the claim is filed on or before December 29, 2008. If the Federal law that authorizes judicial review of a claim provides a time period of less than 180 days for filing such claim, then that shorter time period still applies.

FOR FURTHER INFORMATION CONTACT: Marie J. Petry, California Department of Transportation District 8, 464 W. 4th Street, San Bernardino, CA 94201-1400, telephone (909) 383-6379, Marie_Petry@dot.ca.gov.

SUPPLEMENTARY INFORMATION: Notice is hereby given that the California Department of Transportation (Caltrans), pursuant to its assigned responsibilities under U.S.C. 327, and certain Federal Agencies have taken final agency actions subject to 23 U.S.C. 139(l)(1) by approving the United States 395 (US-395) widening project in the State of California. When completed, the US-395 widening project will accommodate the installation of rumble strips on the 7.9 ft (2.40 m) outside paved shoulders and a 3.9 ft (1.2 m) median buffer. In addition, roadway resurfacing will be conducted in both directions and the following intersections will be paved to accommodate the new width of the US-395: Colusa Road, Desert Flower Road, Purple Sage Street, Shadow Mountain Avenue, Sun Hill Ranch, and Princess Pat Mine. The project would require right of way acquisition and utility relocation. The right of way acquisition will include the required land for the project as well as land required to accommodate future passing lanes. Since the project consists of widening the existing facility, there will be no additional encroachment either upon any floodplain or drainage course that might be determined to be associated with a floodplain. In addition, the project would not require any new structures, retaining walls, and/or soundwalls; therefore, it would not create any visual impacts in the area. The actions by the Federal agencies, and the laws under which such actions were taken, are described in the Final Initial Study with Mitigated Negative Declaration/Environmental Assessment for the project, approved on May 1, 2008, in the FHWA Finding of No Significant Impact (FONSI) issued on May 1, 2008, and in other documents in the FHWA project records. The Final Initial Study with Mitigated Negative Declaration/Environmental Assessment, FONSI, and other project records are available by contacting FHWA or the California Department of Transportation, District 8 at the address provided above. The FHWA FONSI can be viewed and downloaded from the project Web site at http://district8.dot.ca.gov/projects/index.htm.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, as amended [42 U.S.C. 7401-7671(q)].

3. Wildlife: Endangered Species Act [16 U.S.C. 1531-1544]; Fish and Wildlife Coordination Act [16 U.S.C. 661-667(d)].

4. Historic and Cultural Resources: Section 106 of the National Historic Preservation Act of 1966, as amended [16 U.S.C. 470(f) et seq.]; Archaeological Resources Protection Act of 1977 [16 U.S.C. 470(aa)-11]; Archaeological and Historic Preservation Act [16 U.S.C. 469-469(c)]; Native American Grave Protection and Repatriation Act [25 U.S.C. 3001-3013].

5. Social and Economic: Civil Rights Act of 1964 [42 U.S.C. 2000(d)-2000(d)(1)]; American Indian Religious Freedom Act [42 U.S.C. 1996]; the Uniform Relocation Assistance and Real Property Acquisition Policies Act of 1970, as amended [42 U.S.C. 61].

6. Wetlands and Water Resources: Clean Water Act [33 U.S.C. 1251-1377 (Section 404, Section 401)].

7. Hazardous Materials: Comprehensive Environmental Response, Compensation, and Liability Act [42 U.S.C. 9601-9675]; Superfund Amendments and Reauthorization Act of 1986 [PL 99-499]; Resource Conservation and Recovery Act [42 U.S.C. 6901-6992(k)].

8. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: June 10, 2008.
Nancy E. Bobb,
Director, State Programs, Federal Highway Administration, Sacramento, California.

[FR Doc. E8-14945 Filed 6-30-08; 8:45 am]

BILLING CODE 4910-RY-P